ENVIRONMENTAL PROTECTION AGENCY

[FRL-8191-1]

Notice of Prevention of Significant Deterioration Final Determination for Newmont Nevada Energy Investment

AGENCY: Environmental Protection Agency (“EPA”).

ACTION: Notice of Final Action; correction.

SUMMARY: This document corrects information published in the Federal Register on May 5, 2006 concerning the issuance of a Prevention of Significant Deterioration (“PSD”) permit for Newmont Nevada Energy Investment, LLC (“Newmont”). We are also providing additional information regarding the issuance of the permit, as well as the denial of review of the permit by EPA's Environmental Appeals Board (“EAB”), that was not published in our May 5, 2006 Federal Register notice.

FOR FURTHER INFORMATION CONTACT: Copies of the permit are available for public inspection and can be obtained by contacting: Roger Kohn (AIR-3), U.S. Environmental Protection Agency, Region 9, 75 Hawthorne Street, San Francisco, CA 94105. (415) 972-3973. e-mail: kohn.roger@epa.gov.

Readers interested in more detail on the appeal issues raised by the petitioner and the reasons for the EAB's denial of review may download EAB's Order Denying Review from the EAB Web site: http://yosemite.epa.gov/oa/EAB_Web_Docket.nsf/PSD+Permit+Appeals+(CAA)?OpenView.

Notification of EAB Final Decision

The Nevada Department of Conservation and Natural Resources, Division of Environmental Protection, acting under authority of a PSD delegation agreement, issued a PSD permit to Newmont on May 5, 2005, granting approval to construct the TS Power Plant, a 200 megawatt pulverized coal-fired boiler plant to be located near Dunphy, NV. The Association for Clean Energy (“ACE”) filed a petition for review with the EAB on June 3, 2005. The EAB denied review of the petition on December 21, 2005. The permit became effective on December 21, 2005, not on June 4, 2005 as stated in our May 5, 2006 Federal Register notice.

Judicial review of the permit decision, to the extent it is available pursuant to section 307(b)(1) of the Clean Air Act (“CAA”), may be sought by filing a petition for review in the United States Court of Appeals for the Ninth Circuit within 60 days of our May 5, 2006 Federal Register notice.

Dated: June 23, 2006.
Deborah Jordan,
Director, Air Division, Region 9.

[FR Doc. E6-10742 Filed 7-7-06; 8:45 am]

BILLING CODE 6560-50-P